DEPARTMENT OF COMMERCE

Census Bureau

Current Retail Sales and Inventory Survey

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before January 18, 2005.

ADDRESSES: Direct all written comments to Diana Hynek, Departmental Paperwork Clearance Officer, Department of Commerce, Room 6625, 14th and Constitution Avenue, NW., Washington, DC 20230 (or via the Internet at Dhynek@doc.gov).

FOR FURTHER INFORMATION CONTACT: Requests for additional information or copies of the information collection instruments and instructions should be directed to Scott Scheleur, U.S. Census Bureau, Room 2626-FOB 3, Washington, DC 20233-6500, (301) 763-2713.

SUPPLEMENTARY INFORMATION:

I. Abstract

The Current Retail Sales and Inventory Survey provides estimates of monthly retail sales, end-of-month merchandise inventories, and quarterly e-commerce sales of retailers in the United States by selected kinds of business. Also, it provides monthly sales of food service establishments. The Bureau of Economic Analysis (BEA) uses this information to prepare the National Income and Products Accounts and to benchmark the annual input-output tables. Statistics provided from the Current Retail Sales and Inventory Survey are used to calculate the gross domestic product (GDP).

Estimates produced from the Current Retail Sales and Inventory Survey are based on a probability sample. The sample design consists of one fixed panel where all cases are requested to report sales and/or inventories each month.

Listed below are the series of retail form numbers and a description of each form:

Series | Description
SM-44(00)S | Non Department Store/Sales Only/WO E-Commerce.
SM-44(00)SE | Non Department Store/Sales Only W E-Commerce.
SM-44(00)SS | Non Department Store/Sales Only/Screener.
SM-44(00)B | Non Department Store/Sales and Inventory/WO E-Comm.
SM-44(00)BE | Non Department Store/Sales and Inventory/W E-Comm.
SM-44(00)BS | Non Department Store/Sales and Inventory/Screener.
SM-44(00)L | Non Department Store/Sales and Inventory/LIFO/WO E-Comm.
SM-44(00)LE | Non Department Store/Sales and Inventory/LIFO/W E-Comm.
SM-44(00)LS | Non Department Store/Sales and Inventory/LIFO/Screener.
SM-45(00)S | Department Store/Sales Only/WO E-Commerce.
SM-45(00)SE | Department Store/Sales Only/W E-Commerce.
SM-45(00)SS | Department Store/Sales Only/Screener.
SM-45(00)B | Department Store/Sales and Inventory/WO E-Commerce.
SM-45(00)BE | Department Store/Sales and Inventory/W E-Commerce.
SM-45(00)BS | Department Store/Sales and Inventory/Screener.
SM-72(00)S | Food Services/Sales Only/WO E-Commerce.
SM-20(00)I | Non Department and Department Store/Inventory Only.
SM-20(00)L | Non Department and Department Store/Inventory Only/LIFO.

II. Method of Collection

We collect this information by mail, fax, and telephone follow-up.

III. Data

OMB Number: 0607-0717.

Form Number: See above.

Type of Review: Regular submission.

Affected Public: Retail and food services firms in the United States.

Estimated Number of Respondents: 10,000.

Estimated Time Per Response: 7.8 minutes.

Estimated Total Annual Burden Hours: 16,000.

Estimated Total Annual Cost: The cost to the respondents for fiscal year 2005 is estimated to be $377,440 based on the median hourly salary of $23.59 for accountants and auditors. (Occupational Employment Statistics-Bureau of Labor Statistics May 2003 National Occupational Employment and Wage Estimates, $23.59 represents the median hourly wage of the full-time wage and salary earnings of accountants and auditors SOC code 13-2011.) http://stats.bls.gov/oes/2003/may/oes_13Bu.htm.

Respondent's Obligation: Voluntary.

Legal Authority: Title 13, United States Code, Section 182.

IV. Request for Comments

Comments are invited on: (a) Whether the proposed collection of information is necessary for the proper performance of the functions of the agency, including whether the information shall have practical utility; (b) the accuracy of the agency's estimates of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 9, 2004.
Madeleine Clayton,
Management Analyst, Office of the Chief Information Officer.

[FR Doc. 04-25370 Filed 11-15-04; 8:45 am]

BILLING CODE 3510-07-P